DEPARTMENT OF TRANSPORTATION

Office of the Secretary

Privacy Act of 1974: System of Records

AGENCY: Office of the Secretary, Department of Transportation (DOT).

ACTION: Notice of establishment of system of records.

SUMMARY: The Privacy Act of 1974, as amended, 5 U.S.C. 552a, requires that agencies that maintain a system of records publish a notice in the Federal Register of the existence and character of the system of records. In accordance with the Privacy Act, DOT is giving notice of a system of records to track consumer complaints by airline passengers.

DATES: This notice will be effective, without further notice, on April 6, 2005, unless modified by a subsequent notice to incorporate comments received by the public. Comments must be received by March 28, 2005, to be assured consideration.

ADDRESSES: Send comments to Yvonne Coates, Privacy Officer, United States Department of Transportation, Office of the Secretary, 400 7th Street, SW., Room 6106, Washington DC 20590 or Yvonne.Coates@ost.dot.gov.

FOR FURTHER INFORMATION CONTACT: Daeleen M. Chesley or Blane A. Workie, Office of the Assistant General Counsel for Aviation Enforcement and Proceedings, Office of the General Counsel, 400 7th Street, SW., Room 10424, Washington, DC 20590, 202-366-1617 (voice), 202-366-7153 (fax), or daeleen.chesley@ost.dot.gov (e-mail).

SUPPLEMENTARY INFORMATION: The Office of the Assistant General Counsel for Aviation Enforcement and Proceedings operates a complaint handling system for consumers who experience air travel service problems and enters all complaints in a computerized system. This system of records, which is used primarily to monitor complaint records of individual airlines and air travel companies and to determine the extent to which these entities are in compliance with Federal aviation civil rights and consumer protection regulations, contains personal information about individuals. The following information may be contained in the system: Name; home and/or business address; telephone number(s); e-mail address; name of the airline or company about which the individual is complaining; flight date; flight number; origin and destination cities of trip; nature of service issue and/or individual's disability and accommodations requested; and sex, race, color, ethnicity, religion, and/or national origin of individual.

DOT/OST 102

System name:

Aviation Consumer Complaint Application Online System (CCA).

Security classification:

Sensitive, unclassified.

System location:

This system of record is in the Office the Assistant General Counsel for Aviation Enforcement and Proceedings, Office of the Secretary, U.S. Department of Transportation, 400 7th Street, SW., Room 4107, Washington, DC 20590.

Categories of individuals covered by the system of records:

The system consists of information on individuals who have filed air travel service complaints or other inquiries with the Office of the Assistant General Counsel for Aviation Enforcement and Proceedings regarding an air carrier and/or air travel company.

Categories of records in the system:

The information in the system consists of service-related consumer complaints, inquiries, opinions, and compliments regarding air carriers or air travel companies.

Authority for maintenance of the system:

49 U.S.C. 40127, 41310, 41702, 41705, and 41712.

Purposes:

To monitor complaint records of individual airlines and air travel companies; to determine the extent to which these entities are in compliance with Federal aviation civil rights and consumer protection regulations; to report complaint statistics to Congress, the media, and the general public; to serve as a basis for rulemaking, legislation, and research; and to assist airlines in identifying and remedying consumer concerns.

Routine uses of records maintained in the system, including categories of users and the purposes of such uses:

(1) ACPD may disclose information from this system of records to authorized representatives of the United States Government or a U.S. or foreign air carrier or air travel company about whom the complaint or record concerns for purposes of improving customer service.

(2) The Office of the Assistant General Counsel for Aviation Enforcement and Proceedings may use information from this system of records to determine whether to further investigate or take enforcement action against an air carrier or air travel company for possible violations of federal aviation civil rights and consumer protection statutes and regulations.

(3) The Office of the Assistant General Counsel for Aviation Enforcement and Proceedings may disclose information about an individual from this system of records to an advocacy organization provided that the individual gave the organization permission to inquire on his or her behalf.

(4) See Prefatory Statement of General Routine Uses, 65 FR 19477 (April 11, 2000).

Disclosure to consumer reporting agencies:

None.

Policies and practices for storing, retrieving, accessing, retaining, and disposing of records in the system:

Storage:

Documents are stored in electronic form and as paper records in file folders stored in file cabinets.

Retrievability:

Electronic records are retrievable by consumer's name, air carrier name, complaint code and/or record number. Paper records are retrievable by name of air carrier about which the record concerns.

Safeguards:

Access to records is limited to those who process the records for the specific routine uses stated above (e.g., personnel in the Office of the Assistant General Counsel for Aviation Enforcement and Proceedings, air carriers to which the service complaint or document relates, and Federal agencies that have a specific need for the information). Various methods of computer security limit access to records in the automated database. Paper records are stored in file cabinets located in a secured office area.

Retention and disposal:

Most paper records are destroyed after a one-year period. Paper records used for investigations and enforcement proceedings are maintained for a longer period of time. Electronic records are stored for an indefinite period of time.

System manager and address:

Assistant General Counsel for Aviation Enforcement and Proceedings, Office of the Secretary, U.S. Department of Transportation, 400 7th Street, SW., Room 4107, Washington, DC 20590.

Notification procedure:

Same as “System Manager.”

Record access procedures:

Same as “System Manager.”

Contesting record procedures:

Same as “System Manager.”

Record source categories:

Information contained in this system is provided by individuals, or on behalf of individuals, through telephone calls, e-mails, and written correspondence received by the Department of Transportation.

Exemptions claimed for the system:

5 U.S.C. 552a(k).

Dated: February 18, 2005.
Yvonne L. Coates,
Departmental Privacy Officer.

[FR Doc. 05-3646 Filed 2-24-05; 8:45 am]

BILLING CODE 4910-62-P